DEPARTMENT OF HEALTH AND HUMAN SERVICES

Centers for Disease Control and Prevention

[30Day-14-0004]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Disease Surveillance Program—II. Disease Summaries (OMB No. 0920-0004, Expires 8/31/2014)—Revision—National Center for Immunization and Respiratory Diseases, Centers for Disease Control and Prevention (CDC).

Background and Brief Description

Surveillance of the incidence and distribution of disease has been an important function of the U.S. Public Health Service (PHS) since 1878. Through the years, PHS/CDC has formulated practical methods of disease control through field investigations. The CDC National Disease Surveillance Program is based on the premise that diseases cannot be diagnosed, prevented, or controlled until existing knowledge is expanded and new ideas developed and implemented. Over the years, the mandate of CDC has broadened to include preventive health activities and the surveillance systems maintained have expanded.

Data on disease and preventable conditions are collected in accordance with jointly approved plans by CDC and the Council of State and Territorial Epidemiologists (CSTE). Changes in the surveillance program and in reporting methods are effected in the same manner. At the beginning of this surveillance program in 1968, CSTE and CDC decided which diseases warranted surveillance. These diseases are reviewed and revised based on variations in the public's health. Surveillance forms are distributed to State and local health department staff, who voluntarily submit these reports to CDC on variable frequencies—weekly, monthly, or quarterly. CDC then calculates and publishes weekly statistics via the Morbidity and Mortality Weekly Report (MMWR), providing the states with timely aggregates of their submissions.

The following diseases/conditions are included in this program: Influenza Virus, Caliciviruses, Respiratory and Enteric Viruses, Foodborne Outbreaks, Waterborne Outbreaks, and Enteroviruses. These data are essential on the local, state, and Federal levels for measuring trends in diseases, evaluating the effectiveness of current prevention strategies, and determining the need for modifying current prevention measures.

This request is for revision of the currently approved data collection for three years. The revisions include shifting information collection management responsibilities from the National Center for Emerging and Zoonotic Infectious Diseases (NCEZID) to the National Center for Immunization and Respiratory Diseases (NCIRD) and consolidating various forms to reflect more current technology trends. In addition, to gauge the potential threat to human health, a new Middle East Respiratory Syndrome Coronavirus (MERS-CoV) patient investigation data collection form has been added. A new Adenovirus Typing Report form is also included and will allow for a passive surveillance mechanism which will enhance the adenovirus circulation data that's already collected by the National Respiratory and Enteric Virus Surveillance System (NREVSS). Furthermore, minor changes have been made to the forms related to Human Infection with Novel Influenza A Virus. The Harmful Algal Bloom-related Illness forms are being discontinued.

The methodology for reporting varies depending on the occurrence, modes of transmission, infectious agents, and epidemiologic measures.

There is no cost to respondents other than their time.

The total estimated annual burden hours are 31,836.

Estimate of Annualized Burden Hours
Type of respondents—state epidemiologists | Number of respondents | Number of responses per respondent | Average burden per response (in hours)
Form Name
Foodborne Disease Transmission_Person to Person_Animal Contact CDC 52.13 | 54 | 32 | 20/60
WHO Collaborating Center for Influenza: Influenza Virus Surveillance (Internet; year round) (CDC 55.31) | 35 | 52 | 10/60
U.S. WHO Collaborating Laboratories Influenza Testing Methods Assessment | 87 | 1 | 10/60
US Outpatient Influenza-like Illness Surveillance Network (ILINet) Weekly (CDC 55.20) | 1,800 | 52 | 10/60
US Outpatient Influenza-like Illness Surveillance Network (ILINet) Daily ILINet, Reports of Influenza-Like Illness (ILI) | 75 | 365 | 10/60
Influenza-Associated Pediatric Mortality Case Report Form | 57 | 2 | 30/60
Human Infection with Novel Influenza A Virus Case Report Form | 57 | 6 | 30/60
Human Infection with Novel Influenza A Virus with Suspected Avian Source | 57 | 1 | 30/60
Human Infection with Novel Influenza A Virus Severe Outcomes | 57 | 1 | 1.5/60
Novel Influenza A Virus Infection Contact Tracing Form | 57 | 1 | 30/60
Novel Influenza A Virus Case Status Summary | 57 | 1 | 15/60
Novel Influenza A Virus Case Screening Form | 57 | 1 | 15/60
122 CMRS—City health officers or vital statistics registrars Daily Mortality Report | 58 | 365 | 12/60
122 CMRS—City health officers or vital statistics registrars Weekly Mortality Report | 122 | 52 | 12/60
Aggregate Hospitalization and Death Reporting Activity Weekly Report Form | 56 | 52 | 10/60
Antiviral Resistant Influenza Infection Case Report Form | 57 | 3 | 30/60
National Respiratory & Enteric Virus Surveillance System (NREVSS) (CDC 55.83 Lab Assessment Form, 55.83A, B, D) (electronic) | 300 | 52 | 15/60
National Enterovirus Surveillance Report: (CDC 55.9) (electronic) | 25 | 12 | 15/60
Adenovirus Typing Report Form | 25 | 12 | 15/60
Middle East Respiratory Syndrome Coronavirus (MERS) Patient Under Investigation (PUI) Form | 57 | 3 | 25/60
Form for Submitting Specimens From Suspected Norovirus Outbreaks | 20 | 5 | 15/60
Waterborne Disease Transmission CDC 52.12 | 57 | 1 | 20/60
Influenza Virus (Electronic, Year Round), PHLIP_HL7 messaging Data Elements | 49 | 52 | 5/60
-Influenza virus (electronic, year round) (PHIN-MS) | 3 | 52 | 5/60

Leroy Richardson,
Chief, Information Collection Review Office, Office of Scientific Integrity, Office of the Associate Director for Science, Office of the Director, Centers for Disease Control and Prevention.

[FR Doc. 2014-18844 Filed 8-8-14; 8:45 am]

BILLING CODE 4163-18-P